FEDERAL MARITIME COMMISSION

46 CFR Part 502

[Docket No. 16-08]

RIN 3072-AC64

Rules of Practice and Procedure; Presentation of Evidence in Commission Proceedings; Correction

AGENCY: Federal Maritime Commission.

ACTION: Final rule; correction.

SUMMARY: This document contains a correction to the effective date of the final rule published in the Federal Register of December 22, 2016, concerning Presentation of Evidence in Commission Proceedings.

DATES: Effective on January 27, 2017.

FOR FURTHER INFORMATION CONTACT: Rachel E. Dickon, Assistant Secretary, Federal Maritime Commission, 800 North Capitol Street NW., Washington, DC 20573-0001, Phone: (202) 523-5725, Email: secretary@fmc.gov.

SUPPLEMENTARY INFORMATION: The final rule published on December 22, 2016, 81 FR 93831, contained an incorrect effective date due to a typographical error. The correct effective date is January 27, 2017.

Corrections

In FR Rule Doc. 2016-30745, in the Federal Register of December 22, 2016 (81 FR 93831), the following correction is made:

1. On page 93831, in the first column, in the DATES section, correct “January 27, 2016” to read “January 27, 2017.”

Rachel E. Dickon,
Assistant Secretary.

[FR Doc. 2016-31412 Filed 12-30-16; 8:45 am]

BILLING CODE 6731-AA-P